CHEMICAL SAFETY AND HAZARD INVESTIGATION BOARD

Sunshine Act Meeting

The United States Chemical Safety and Hazard Investigation Board announces that it will convene a Public Meeting beginning at 9:30 a.m. local time on September 15, 2000, at 2175 K Street, Second floor (Conference rooms of the Medical Society of the District of Columbia) Washington, D.C. Topics will include:

1. Presentation of findings for the CSB investigation into the March 4, 1998, incident at a Sonat Incorporated crude oil and natural gas production and separation facility near Pitkin, Louisiana.

2. Update on the CSB investigation into the February 23, 1999, fire that occurred at the fractionator tower in the 50 crude oil processing unit at the Tosco “Avon” refinery in Martinez, California.

3. Discussion of recommendations resulting from the Board investigation into an incident at the Morton International, Inc. Plant in Paterson, New Jersey on April 8, 1998.

4. Presentation and discussion of final draft of the CSB report detailing the process for selecting accidents for CSB investigations.

5. Update on revisions to the CSB investigation protocol.

6. Review of the CSB five-year Strategic Plan due to Congress on September 29, 2000.

7. Update on the CSB Hiring Plan Initiative.

8. Review of draft Memoranda of Understanding with the National Transportation Safety Board and the Agency for Toxic Substances and Disease Registry.

9. Presentation of CSB directives and voting record of the Board.

10. Discussion of CSB legal initiatives for the end of the calendar year.

11. Update on the GAO report concerning CSB actions in FY 1999 and 2000.

12. Update on Board Member activities.

The meeting will be open to the public. For more information, please contact the Chemical Safety and Hazard Investigation Board's Office of External Relations, (202)-261-7600, or visit our website at: www.csb.gov.

Christopher W. Warner,
General Counsel.

[FR Doc. 00-22914 Filed 9-1-00; 11:49 am]

BILLING CODE 6350-01-P